DEPARTMENT OF TRANSPORTATION

Federal Railroad Administration

49 CFR Parts 222 and 229

[Docket No. FRA-1999-6439, Notice No. 14]

RIN 2130-AA71

Use of Locomotive Horns at Highway-Rail Grade Crossings

AGENCY: Federal Railroad Administration (FRA), Department of Transportation (DOT).

ACTION: Interim final rule; change of effective date.

SUMMARY: On December 18, 2003, FRA published an Interim Final Rule in the Federal Register addressing the use of locomotive horns at highway-rail grade crossings. As FRA was interested in receiving public comments on all aspects of the Interim Final Rule, FRA held a public hearing in Washington, DC on February 4, 2004, and extended the comment period from the originally scheduled deadline of February 17, 2004, to April 19, 2004. However, by the close of the extended comment period, FRA had received more than 1,400 comments on the Interim Final Rule and Environmental Impact Statement. Given the extensive amount of time needed to review and analyze the comments received, on November 22, 2004, FRA extended the effective date of the Interim Final Rule until April 1, 2005. However, as a result of delays related to the publication of the final rule, which FRA intends to issue before the Interim Final Rule takes effect, FRA is issuing this document to announce the change of the Interim Final Rule effective date to June 24, 2005.

DATES: The effective date of the Interim Final Rule published at 68 FR 70586 and delayed at 69 FR 67858 is changed from April 1, 2005, to June 24, 2005.

FOR FURTHER INFORMATION CONTACT: Ron Ries, Office of Safety, FRA, 1120 Vermont Avenue, NW., Washington, DC 20590 (telephone 202-493-6299); or Kathryn Shelton, Office of Chief Counsel, FRA, 1120 Vermont Avenue, NW., Washington, DC 20590 (telephone 202-493-6038).

SUPPLEMENTARY INFORMATION: This document changes the Interim Final Rule effective date to June 24, 2005. Therefore, any requirements imposed by the Interim Final Rule that pertain to 49 CFR parts 222 and 229 and would have taken effect before June 24, 2005, need not be complied with before that date. This change of the Interim Final Rule effective date will give public authorities additional time within which to establish the necessary conditions that will permit them to continue or establish quiet zones within their respective jurisdictions.

As the provisions of the Interim Final Rule remain subject to further modification under the terms of the final rule, FRA intends to issue the final rule prior to the Interim Final Rule effective date stated above. However, in order to address the concerns of communities that have been anxiously awaiting the issuance of the final rule, the provisions of the final rule for quiet zone-related administrative matters will become effective 30 days after publication of the final rule. Therefore, public authorities will be permitted to provide quiet zone-related documentation 30 days after the final rule is published.

Issued in Washington, DC, on March 14, 2005.
Robert D. Jamison,
Acting Administrator.

[FR Doc. 05-5362 Filed 3-15-05; 1:19 pm]

BILLING CODE 4910-06-P